DEPARTMENT OF ENERGY

Federal Energy Regulatory Commission

Combined Notice of Filings

Take notice that the Commission has received the following Natural Gas Pipeline Rate and Refund Report filings:

Filings Instituting Proceedings

Docket Numbers: RP18-176-000.

Applicants: Kern River Gas Transmission Company.

Description: § 4(d) Rate Filing: 2017 Negotiated Mid-November to be effective 11/21/2017.

Filed Date: 11/20/17.

Accession Number: 20171120-5037.

Comments Due: 5 p.m. ET 12/4/17.

Docket Numbers: RP18-177-000.

Applicants: Algonquin Gas Transmission, LLC.

Description: § 4(d) Rate Filing: Negotiated Rates—Baystate Amended NRA 510066 to be effective 12/1/2017.

Filed Date: 11/20/17.

Accession Number: 20171120-5048.

Comments Due: 5 p.m. ET 12/4/17.

Docket Numbers: RP18-178-000.

Applicants: Enable Gas Transmission, LLC.

Description: § 4(d) Rate Filing: Negotiated Rate Filing—November 2017 Black Hills 1006439 to be effective 11/20/2017.

Filed Date: 11/20/17.

Accession Number: 20171120-5120.

Comments Due: 5 p.m. ET 12/4/17.

Docket Number: PR18-10-000.

Applicants: UGI Penn Natural Gas, Inc.

Description: Tariff filing per 284.123(b),(e)+(g): Rate Election to be effective 11/17/2017.

Filed Date: 11/17/17.

Accession Number: 201711175054.

Comments Due: 5 p.m. ET 12/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2017.
Nathaniel J. Davis, Sr.,
Deputy Secretary.

[FR Doc. 2017-26098 Filed 12-4-17; 8:45 am]

BILLING CODE 6717-01-P